COMMISSION ON CIVIL RIGHTS

Sunshine Act Notice

Agency: U.S. Commission on Civil Rights.

Date and Time: Thursday, March 1, 2007, 3 p.m.

Place: U.S. Commission on Civil Rights, 624 9th Street, NW., Washington, DC 20425, Via Teleconference, Public Call-In number: 1-800-597-7623, Access Code Number: 9548257, Federal Relay Service: 1-800-877-8339.

Status:

Meeting Agenda

I. Approval of Agenda

II. Approval of Minutes of February 9, 2007 Meeting

III. Management and Operations

• FY 2008 Budget Request

IV. Future Agenda Items

V. Adjourn

Contact Person for Further Information: Christopher Byrnes, Office of the Staff Director, (202) 376-7700.

David Blackwood,
General Counsel.

[FR Doc. 07-808 Filed 2-16-07; 3:22 pm]

BILLING CODE 6335-01-P